DEPARTMENT OF THE TREASURY

Office of Foreign Assets Control

[Docket No.: OFAC-2025-0001]

Agency Information Collection Activities; Submission for OMB Review; Comment Request; Office of Foreign Assets Control Reporting, Procedures and Penalties Regulations Sanctions Reconsideration Portal

AGENCY: Office of Foreign Assets Control, Treasury.

ACTION: Notice of information collection; request for comments.

SUMMARY: The Department of the Treasury will submit the following information collection request to the Office of Management and Budget (OMB) for review and clearance in accordance with the Paperwork Reduction Act of 1995, on or after the date of publication of this notice. The public is invited to submit comments on this request.

DATES: Written comments must be received by March 27, 2026 to be assured of consideration.

ADDRESSES: Written comments and recommendations for the proposed information collection should be sent within 30 days of publication of this notice to https://www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at https://www.reginfo.gov.

SUPPLEMENTARY INFORMATION:

Title: OFAC Reporting, Procedures and Penalties Regulations Sanctions Reconsideration Portal.

OMB Number: 1505-0164.

Type of Review: Revision of a currently approved collection.

Description: OFAC is seeking to add a new electronic Sanctions Reconsideration Portal information collection contained within § 501.807 of OFAC's Reporting, Procedures and Penalties Regulations (the “Regulations”), which pertains to the operation of the various economic sanctions programs administered by OFAC under 31 CFR chapter V. Section 501.807 sets forth the procedures to be followed by a person seeking administrative reconsideration of the listing of a person or property (e.g., a vessel) on OFAC's Specially Designated Nationals and Blocked Persons List (SDN List) or any other list or identification of sanctioned persons or property maintained by OFAC. OFAC is seeking approval of an electronic Sanctions Reconsideration Portal that would gather specific information from the petitioner and provide a more efficient process for collecting and reviewing applications for reconsideration. Petitioner use of the Sanctions Reconsideration Portal will be voluntary. OFAC is also incorporating the voluntary Unblocking/Transfer Report Form, TD F 93.10, that was approved by OMB on September 11, 2025. OFAC is not making any further changes to other collections associated with this control number.

The submissions covered by this information collection will be reviewed by the U.S. Department of the Treasury and may be used for sanctions reconsiderations and other regulatory or administrative actions by OFAC under its authorities.

Forms: The proposed Sanctions Reconsideration Portal information collection covered by this notice will contain a list of questions to provide electronically regarding the reasons and supporting information for the petitioner's request for consideration of removal from an OFAC sanctions list. Additionally, OFAC is incorporating into this collection the Unblocking/Transfer Report Form, TD F 93.10, that was approved by OMB on September 11, 2025.

Affected Public: The likely respondents and recordkeepers affected by the information collections covered by this authority are financial institutions, business organizations, nonprofit organizations, individuals, persons sanctioned by OFAC, and legal representatives.

Estimated Number of Respondents: OFAC's estimate for the total number of unique reporting respondents covered in this entire information collection in a one-year period is approximately 10,900, including OFAC's estimate for the 300 unique respondents for the Sanctions Reconsideration Portal.

Frequency of Response: The estimated annual frequency of responses for the Sanctions Reconsideration Portal is approximately once. Under this entire information collection, the estimated annual frequency of all types of responses is between 1 and 17,800, varying greatly by entity depending on the size, nature, and scope of business activities of each respondent, with the majority of filers providing a small number of responses and a small number of filers submitting a higher number of responses.

Estimated Total Number of Annual Responses: The estimated total number of responses per year is approximately 2,503,008 responses, including the additional estimate of 300 responses for the Sanctions Reconsideration Portal.

Estimated Time per Response: OFAC estimates that the average time for reports associated with forms ranges from 15 minutes to two hours and for reports associated with general licenses and other reports not associated with forms ranges from one minute to five hours, as noted below in the more detailed background section. OFAC estimates that the average time for reports associated with the Sanctions Reconsideration Portal to be three hours.

Estimated Total Annual Burden Hours: The estimated total annual reporting burden associated with all of the information collections covered by this authority is approximately 87,209 hours, including the additional estimated reporting burden of 900 for the Sanctions Reconsideration Portal and the slight increase in burden of 91 for the Unblocking/Transfer form.

(Authority: 44 U.S.C. 3501 et seq.)

Spencer W. Clark,
Treasury PRA Clearance Officer.

[FR Doc. 2026-03780 Filed 2-24-26; 8:45 am]

BILLING CODE 4810-AL-P